SMALL BUSINESS ADMINISTRATION

[Declaration of Disaster #3505, Amdt. 1]

State of Illinois

In accordance with a notice received from the Department of Homeland Security—Federal Emergency Management Agency, effective May 21, 2003, the above numbered declaration is hereby amended to include Greene, McDonough and Pike Counties as disaster areas due to damages caused by severe storms, tornadoes and flooding occurring on May 6 through May 11, 2003.

In addition, applications for economic injury loans from small businesses located in the contiguous counties of Calhoun, Jersey, Macoupin and Scott in the State of Illinois; and Pike and Ralls Counties in the State of Missouri may be filed until the specified date at the previously designated location. All other counties contiguous to the above named primary counties have been previously declared.

All other information remains the same, i.e., the deadline for filing applications for physical damage is July 14, 2003, and for economic injury the deadline is February 17, 2004.

(Catalog of Federal Domestic Assistance Program Nos. 59002 and 59008).
Dated: May 22, 2003.
Herbert L. Mitchell,
Associate Administrator for Disaster Assistance.

[FR Doc. 03-13767 Filed 6-2-03; 8:45 am]

BILLING CODE 8025-01-P